DEPARTMENT OF ENERGY

Federal Energy Regulatory Commission

Notice of Availability of the Final Supplemental Environmental Impact Statement for the Southeast Market Pipelines Project

| Docket No.
Florida Southeast Connection, LLC | [CP14-554-002]
Transcontinental Gas Pipe Line Company, LLC | [CP15-16-003]
Sabal Trail Transmission, LLC | [CP15-17-002]

The staff of the Federal Energy Regulatory Commission (FERC or Commission) has prepared a final supplemental environmental impact statement (SEIS) to address the August 22, 2017 Opinion issued by the United States Court of Appeals for the District of Columbia regarding the Commission's environmental review of the Southeast Market Pipelines (SMP) Project.

The final SEIS estimates the greenhouse gas emissions generated by the SMP Project's customers' downstream facilities, describes the methodology used to determine these estimates, discusses context for understanding the magnitude of these emissions, describes the Commission's past policy on use of the Social Cost of Carbon tool, and as appropriate, addresses comments on the draft SEIS issued on September 27, 2017.

Commission staff will mail copies of the final SEIS to federal, state, and local government representatives and agencies; elected officials; environmental and public interest groups; Native American tribes; potentially affected landowners and other interested individuals and groups; newspapers and libraries in the project area; and parties to this proceeding. Additionally, the final SEIS is available for public viewing on the FERC's website (www.ferc.gov) using the eLibrary link.

Additional information about the SMP Project is available from the Commission's Office of External Affairs, at (866) 208-FERC, or on the FERC website (www.ferc.gov) using the eLibrary link. Click on the eLibrary link, click on General Search, and enter the docket number excluding the last three digits in the Docket Number field (i.e., CP14-554, CP15-16, or CP15-17). Be sure you have selected an appropriate date range. For assistance, please contact FERC Online Support at FERCOnlineSupport@ferc.gov or toll free at (866) 208-3676; for TTY, contact (202) 502-8659. The eLibrary link also provides access to the texts of formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to www.ferc.gov/docs-filing/esubscription.asp.

Dated: February 5, 2018.
Kimberly D. Bose,
Secretary.

[FR Doc. 2018-02848 Filed 2-12-18; 8:45 am]

BILLING CODE 6717-01-P